NATIONAL CREDIT UNION ADMINISTRATION

Privacy Act of 1974: New System of Records

AGENCY: National Credit Union Administration (NCUA).

ACTION: Notice of a new system of records.

SUMMARY: NCUA proposes to add a new system of records titled “Credit Union Service Organization Registry System” to its inventory of records systems subject to the Privacy Act of 1974 (5 U.S.C. 552a), as amended. This action is necessary to meet the requirements of the Privacy Act that federal agencies publish in the Federal Register a notice of the existence and character of records it maintains that are retrieved by an individual identifier (5 U.S.C. 552a(e)(4)).

DATES: Submit comments on or before August 31, 2015. This action will be effective without further notice on September 8, 2015 unless comments are received that would result in a contrary determination.

ADDRESSES: You may submit comments by any of the following methods, but please send comments by one method only:

• Federal eRulemaking Portal: http://www.regulations.gov. Follow the instructions for submitting comments.

• NCUA Web site: http://www.ncua.gov/RegulationsOpinionsLaws/proposed_regs/proposed_regs.html. Follow the instructions for submitting comments.

• Email: Address to regcomments@ncua.gov. Include “[Your name]—Comments on CUSO Registry SORN” in the email subject line.

• Fax: (703) 518-6319. Use the subject line described above for email.

• Mail: Address to Gerard Poliquin, Secretary of the Board, National Credit Union Administration, 1775 Duke Street, Alexandria, Virginia 22314-3428.

• Hand Delivery/Courier: Same as mail address.

FOR FURTHER INFORMATION CONTACT: Lisa Dolin, System Manager, Office of Examination & Insurance, Kevin Johnson, Staff Attorney, or Linda Dent, Senior Agency Official for Privacy, Office of General Counsel, at the National Credit Union Administration, 1775 Duke Street, Alexandria, Virginia, 22314, or telephone: (703) 518-6540.

National Credit Union Administration

NCUA-18

System Name:

Credit Union Service Organization (CUSO) Registry System

Security Classification:

Unclassified

System location:

Office of Examination and Insurance, National Credit Union Administration, 1775 Duke Street, Alexandria, VA. 22314-3428.

Categories of individuals covered by this system:

Individuals responsible for the content and submission of information to the CUSO Registry System and individuals with an ownership interest in the CUSO.

Categories of records in the system:

Information used to identify and contact individuals covered by the system including name, address, and telephone number.

Authority for maintenance of the system:

12 U.S.C. 1756, 1757(5)(D) and (7)(I), 1766, 1781(b)(9), 1782, 1784, 1785, 1786 and 1789(11).; 12 CFR parts 712 and 741.

Purpose(s):

The collected information enables NCUA to identify concentrations and interdependencies between CUSOs and across supervised credit unions. It also improves the consistency and transparency of CUSO information and facilitates NCUA's ability to identify any potential systemic safety and soundness concerns stemming from relationships between credit unions and CUSOs.

Disclosure to consumer reporting agencies:

None.

Routine uses of records maintained in the system, including categories of users and the purposes of such uses:

NCUA may share information in this system with appropriate federal or state financial supervision authorities. Contact information is used for communication and authentication purposes. A registered CUSO may authorize other users, such as owner credit unions or affiliated CUSOs or individuals, to access its record.

Policies and practice for storing, retrieving, accessing, retaining and disposing of records in the system:

Storage:

Records are stored electronically.

Retrievability:

Records are retrieved by individual business identifiers such as business name, system-assigned registry number, unique user identification, or by an individual identifier with non-individually identifiable information.

Safeguards:

Information in the system is safeguarded in accordance with the applicable laws, rules and policies governing the operation of federal information systems. Information in the system that is available to the general public does not include any privacy-related information. Access to privacy-related information is password protected and restricted to authorized personnel.

Retention and disposal:

Records are maintained until they become inactive. Records are disposed in accordance with NCUA record retention schedules and consistent with destruction methods appropriate to the type of information.

System manager(s) and address:

CUSO Program Officer, Office of Examination and Insurance, National Credit Union Administration, 1775 Duke Street, Alexandria, VA 22314-3428.

Notification procedure:

An individual can determine if this system contains a record pertaining to the individual by addressing a request in writing to the system manager listed above. If there is no record on the individual, the individual will be so advised. The individual must provide his/her full name and identify the CUSO he/she is associated with as well as contact information for a response.

Record access procedures:

Upon verification that an individual has a record in the system, as determined by the notification procedure above, the system manager will provide the procedure for gaining access to available records.

Contesting record procedures:

Requests to amend or correct a record should be directed to the system manager listed above. Requesters should also reasonably identify the record, specify the information they are contesting, state the corrective action sought and the reasons for the correction along with supporting justification showing why the record is not accurate, timely, relevant, or complete.

Record source categories:

Information is provided by the individual to whom the record pertains or by a representative of the associated CUSO.

Exemptions claimed for the system:

None.

By the National Credit Union Administration on July 24, 2015.
Gerard Poliquin,
Secretary of the Board.

[FR Doc. 2015-18639 Filed 7-29-15; 8:45 am]

BILLING CODE P